NATIONAL SCIENCE FOUNDATION

Sunshine Act Meetings; National Science Board

The National Science Board, pursuant to NSF regulations (45 CFR part 614), the National Science Foundation Act, as amended (42 U.S.C. 1862n-5), and the Government in the Sunshine Act (5 U.S.C. 552b), hereby gives notice of the scheduling of meetings for the transaction of National Science Board business, as follows:

DATE AND TIME: May 6, 2014 from 8:00 a.m. to 4:00 p.m., and May 7 from 8:30 a.m. to 3:15 p.m.

PLACE: These meetings will be held at the National Science Foundation, 4201Wilson Blvd., Rooms 1235, Arlington, VA 22230. All visitors must contact the Board Office (call 703-292-7000 or send an email message to nationalsciencebrd@nsf.gov) at least 24 hours prior to the meeting and provide name and organizational affiliation. Visitors must report to the NSF visitor desk located in the lobby at the 9th and N. Stuart Streets entrance to receive a visitor's badge.

WEBCAST INFORMATION: Public meetings and public portions of meetings will be webcast. To view the meetings, go to http://www.tvworldwide.com/events/nsf/140506 and follow the instructions.

UPDATES: Please refer to the National Science Board Web site for additional information. Meeting information and schedule updates (time, place, subject matter or status of meeting) may be found at http://www.nsf.gov/nsb/notices/.

AGENCY CONTACT: Jennie L. Moehlmann, jmoehlma@nsf.gov, (703) 292-7000.

PUBLIC AFFAIRS CONTACT: Nadine Lymn, nlymn@nsf.gov, (703) 292-2490.

STATUS: Portions open; portions closed.

OPEN SESSIONS:

May 6, 2014

8:00-8:05 a.m. (Chairman's introduction)

8:05-10:15 a.m. (CPP)

10:30-11:30 a.m. (A&O)

11:30 a.m.-12:10 p.m. (Plenary)

1:00-1:40 p.m. (SCF)

2:45-3:00 p.m. (CSB)

3:00-4:00 p.m. (SEI)

May 7, 2014

10:45-11:00 a.m. (CPP)

11:00-11:20 a.m. (Plenary)

2:15-3:15 p.m. (Plenary)

CLOSED SESSIONS:

May 6, 2014

1:40-2:15 p.m. (SCF)

2:15-2:45 p.m. (CSB)

May 7, 2014

8:30-9:00 a.m. (Plenary executive closed)

9:00-10:15 a.m. (CPP)

12:30 a.m.-1:30 p.m. (Plenary closed)

MATTERS TO BE DISCUSSED:

Tuesday, May 6, 2014

Committee on Programs and Plans (CPP)

Open Session: 8:05-10:15 a.m.

• Approval of open CPP minutes and open Joint CPP-CSB minutes for February 2014

• Committee Chairman's remarks—including updated annual CY 2014 schedule of action and information items for NSB review and MREFC/NSB process, Regional Class Research Vessels

• NSB Information Item: National Solar Observatory (NSO)

• NSB Information Item: Division of Material Research briefing on the National Research Council Magnet Science report

• NSB Information Item: GEO Vision: Strategic planning process in the Geosciences

Audit and Oversight Committee (A&O)

Open Session: 10:30-11:30 a.m.

• Approval of February 2014 open meeting minutes

• Committee Chairman's opening remarks

• NSF FY 2013 Merit Review report

• Inspector General's update, including

○ FY 2014 Financial Statement Audit plans

• Chief Financial Officer's update

• Committee Chairman's closing remarks

Plenary Board Meeting

Open Session: 11:30-12:10 a.m.

• Presentation by Honorary Award Recipients

○ NSB Public Service Award—Group, AAAS Science and Technology Policy Fellowship Program, Ms. Cynthia Robinson

○ Vannevar Bush Award, Dr. Richard Tapia

CSB Subcommittee on Facilities (SCF)

Open Session: 1:00-1:40 p.m.

• Chairman's remarks and approval of the open February 2014 meeting minutes, and January 16 and February 6 teleconference meeting minutes

• Discussion of Proposed FY 2013 APR recommendations

• Discussion of Facility Plan draft templates

• FY 2014 APR of Facilities

CSB Subcommittee on Facilities (SCF)

Closed Session: 1:40-2:15 p.m.

• Discussion of Regional Class Research Vessels

Committee on Strategy and Budget (CSB)

Closed Session: 2:15-2:45 p.m.

• Committee Chairman's remarks

• Approval of CSB closed minutes for the February 2014 meeting

• FY 2014 budget update

• FY 2016 budget development

Committee on Strategy and Budget (CSB)

Open Session: 2:45-3:00 p.m.

• Committee Chairman's remarks

• Approval of CSB open minutes for the February 2014 meeting, and the open CPP-CSB Joint Minutes for the February 2014 meeting

• NSF FY 2014 budget update

• NSF FY 2015 budget update

• Subcommittee on Facilities (SCF) Chairman's report

Committee on Science & Engineering Indicators (SEI)

Open Session: 3:00-4:00 p.m.

• Committee Chairman's introduction and approval of the February 2014 meeting minutes

• Update on Science and Engineering Indicators 2014-related outreach activities

• Discussion of the companion report to Indicators 2014

• “Digital Indicators” project status update

• Chairman's closing remarks

Wednesday, May 7, 2014

Plenary Board Meeting

Executive Closed Session: 8:30-9:00 a.m.

• Approval of executive closed session minutes, February 2014 meeting

• Election of NSB Chairman and Vice Chairman

• Chairman's remarks

Committee on Programs and Plans (CPP)

Closed Session: 9:00-10:15 a.m.

• Committee Chairman's remarks

• Approval of closed CPP minutes for February 2014

• NSB Action Item: Large Synoptic Survey Telescope (LSST)

• NSB Information Item: Polar issues/Antarctic update

Committee on Programs and Plans (CPP)

Open Session: 10:45-11:00 a.m.

• NSB Information Item: Polar issues/Antarctic update

Plenary Board Meeting

Open Session: 11:00-11:20 a.m.

• Presentation by Honorary Award Recipient

○ NSB Public Service Award—Individual, Dr. Arthur Caplan

Plenary Board Meeting

Closed Session: 12:30-1:30 p.m.

• Approval of closed session minutes, February 2014

• Discussion on risks to NSF

• Awards and Agreements/CPP Action Item

• Closed committee reports

• Chairman's remarks

Plenary Board Meeting

Open Session: 2:15-3:15 p.m.

• Approval of open session minutes, February 2014

• Chairman's report

• Director's report

• Open committee reports

• Chairman's remarks

MEETING ADJOURNS: 3:15 p.m.

Ann Bushmiller,
Senior Counsel to the National Science Board.

[FR Doc. 2014-10014 Filed 4-29-14; 11:15 am]

BILLING CODE 7555-01-P